SOCIAL SECURITY ADMINISTRATION

[Docket No: SSA-2020-0033]

Agency Information Collection Activities: Proposed Request and Comment Request

The Social Security Administration (SSA) publishes a list of information collection packages requiring clearance by the Office of Management and Budget (OMB) in compliance with Public Law 104-13, the Paperwork Reduction Act of 1995, effective October 1, 1995. This notice includes extensions and revisions of OMB-approved information collections, as well as two new collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov

(SSA) Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2020-0033].

I. The information collections below are pending at SSA. SSA will submit them to OMB within 60 days from the date of this notice. To be sure we consider your comments, we must receive them no later than September 28, 2020. Individuals can obtain copies of the collection instruments by writing to the above email address.

1. Online Request for Correction of Earnings Record—0960-NEW. We are offering an alternative to the paper process of requesting a correction to an earnings record, and launching a new service that enables our users to make these same requests electronically via the online my Social Security portal. Information collected from the public will not exceed that which is requested by paper Form SSA-7008, OMB No. 0960-0029, Request for Correction of Earnings Record. The information we collect includes that which supports an earnings correction action, such as employer names, addresses, wage amounts, and pertinent details about the nature of employment. The respondents are authorized, authenticated individuals accessing the earnings correction process from their personal my Social Security portal.

Type of Request: Request for a new information collection.

Modality of completion | Number of respondents | Frequency of response | Average burden per response (minutes) | Estimated total annual burden (hours) | Average theoretical hourly cost amount (dollars) * | Total annual opportunity cost (dollars) **
Online Request for Correction of Earnings Record | 76,047 | 1 | 15 | 19,012 | * $25.72 | ** $488,989
* We based this figure on average U.S. citizen's hourly salary, as reported by Bureau of Labor Statistics data (https://www.bls.gov/oes/current/oes_stru.htm).
** This figure does not represent actual costs that SSA is imposing on recipients of Social Security payments to complete this application; rather, these are theoretical opportunity costs for the additional time respondents will spend to complete the application. There is no actual charge to respondents to complete the application.

2. Statement of Death by Funeral Director—20 CFR 404.715 and 404.720—0960-0142. When an SSA-insured worker dies, the funeral director or funeral home responsible for the worker's burial or cremation completes Form SSA-721 and sends it to SSA. SSA uses this information for three purposes: (1) To establish proof of death for the insured worker; (2) to determine if the insured individual was receiving any pre-death benefits SSA needs to terminate; and (3) to ascertain which surviving family member is eligible for the lump-sum death payment or for other death benefits. The respondents are funeral directors who handled death arrangements for the insured individuals.

Type of Request: Revision of an OMB-approved information collection.

Modality of completion | Number of respondents | Frequency of response | Average burden per response (minutes) | Estimated total annual burden (hours) | Average theoretical hourly cost amount (dollars) * | Total annual opportunity cost (dollars) **
SSA-721 | 544,233 | 1 | 4 | 36,282 | * 28.06 | ** $1,018,073
* We based this figure on average funeral arranger's hourly salary, as reported by Bureau of Labor Statistics data (https://www.bls.gov/oes/current/oes394031.htm).
** This figure does not represent actual costs that SSA is imposing on recipients of Social Security payments to complete this application; rather, these are theoretical opportunity costs for the additional time respondents will spend to complete the application. There is no actual charge to respondents to complete the application.

3. Government Pension Questionnaire—20 CFR 404.408a—0960-0160. The basic Social Security benefits application (OMB No. 0960-0618) contains a lead question asking if applicants are qualified (or will qualify) to receive a government pension. If the respondent is qualified, or will qualify, to receive a government pension, the applicant completes Form SSA-3885 either on paper or through a personal interview with an SSA claims representative. If applicants are not entitled to receive a government pension at the time they apply for Social Security benefits, SSA requires them to provide the government pension information as beneficiaries when they become eligible to receive their pensions. Regardless of the timing, at some point the applicants or beneficiaries must complete and sign Form SSA-3885 to report information about their government pensions before the pensions begin. SSA uses the information to: (1) Determine whether the Government Pension Offset provision applies; (2) identify exceptions as stated in 20 CFR 404.408a; and (3) determine the benefit reduction amount and effective date. If the applicants and beneficiaries do not respond using this questionnaire, SSA offsets their entire benefit amount. The respondents are applicants or recipients of spousal benefits who are eligible for or already receiving a Government pension.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-3885 | 6,495 | 1 | 13 | 1,407 | * $25.72 | ** 24 | *** $103,009
* We based this figure on average U.S. citizen's hourly salary, as reported by Bureau of Labor Statistics data (https://www.bls.gov/oes/current/oes_stru.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

4. Application for Benefits under a U.S. International Social Security Agreement—20 CFR 404.1925—0960-0448. Section 233(a) of the Social Security Act (Act) authorizes the President to enter into international Social Security agreements (Totalization Agreements) between the United States and foreign countries. SSA collects information using Form SSA-2490-BK to determine entitlement to Social Security benefits from the United States, or from a country that enters into a Totalization Agreement with the United States. The respondents are individuals applying for Old Age Survivors and Disability Insurance (OASDI) benefits from the United States, or from a Totalization Agreement country.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-2490-BK (MCS) | 16,195 | 1 | 30 | 8,098 | * $10.73 | ** 24 | *** $156,401
SSA-2490-BK (Paper) | 2,120 | 1 | 30 | 1,060 | * 10.73 | ** 24 | *** 20,473
Totals | 18,315 |  |  | 9,158 |  |  | *** 176,874
* We based this figure on average DI payments, as reported in SSA's disability insurance payment data (https://www.ssa.gov/legislation/2020Fact%20Sheet.pdf).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

5. Employee Identification Statement—20 CFR 404.702—0960-0473. When two or more individuals report earnings under the same Social Security Number (SSN), SSA collects information on Form SSA-4156 to credit the earnings to the correct individual and SSN. We send SSA-4156 to the employer to: (1) Identify the employees involved; (2) resolve the discrepancy; and (3) credit the earnings to the correct SSN. The respondents are employers involved in erroneous wage reporting for an employee.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-4156 | 3,600 | 1 | 10 | 600 | * $25.72 | ** 24 | *** $52,469
* We based this figure on average U.S. worker's hourly wages as reported by Bureau of Labor Statistics data (https://www.bls.gov/oes/current/oes_stru.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

6. Public Information Campaign—0960-0544. Periodically, SSA sends various public information materials, including public service announcements, news releases, and educational tapes to public broadcasting systems so they can inform the public about various programs and activities SSA conducts. SSA frequently sends follow-up business reply cards for these public information materials to obtain suggestions for improving them. The respondents are broadcast sources.

Type of Request: Revision of an OMB-approved information collection.

Modality of completion | Number of respondents | Frequency of response | Average burden per response (minutes) | Estimated total annual burden (hours) | Average theoretical hourly cost amount (dollars) * | Total annual opportunity cost (dollars) **
Radio Announcement | 5,000 | 2 | 1 | 167 | * $25.76 | ** $4,302
* We based this figure on average Broadcast Announcers and Radio Disc Jockey's hourly salary, as reported by Bureau of Labor Statistics data (https://www.bls.gov/oes/current/oes273011.htm).
** This figure does not represent actual costs that SSA is imposing on recipients of Social Security payments to complete this application; rather, these are theoretical opportunity costs for the additional time respondents will spend to complete the application. There is no actual charge to respondents to complete the application.

7. SSI Notice of Interim Assistance Reimbursement (IAR)—0960-0546. Section 1631(g) of the Act authorizes SSA to reimburse an IAR agency from an individual's retroactive Supplemental Security Income (SSI) payment for assistance the IAR agency gave the individual for meeting basic needs while an SSI claim was pending or SSI payments were suspended or terminated. The State or local agency needs an IAR agreement with SSA to participate in the IAR program. The individual receiving the IAR payment signs an authorization form with an IAR agency to allow SSA to repay the IAR agency for funds paid in advance prior to SSA's determination on the individual's claim. The authorization represents the individual's intent to file for SSI, if the individual did not file an application before SSA received the authorization. Agencies who wish to enter into an IAR agreement with SSA need to meet the following requirements:

• Reporting Requirements—Each IAR agency agrees to:

(a) Notify SSA of receipt of an authorization for initial claims or cases the agency is appealing;

(b) submit a copy of that authorization either through a manual or electronic process;

(c) inform SSA of the amount of reimbursement;

(d) submit a written request for dispute resolution on a determination;

(e) notify SSA of interim assistance paid (using the SSA-8125 or the SSA-L8125-F6);

(f) inform SSA of any deceased claimants who participate in the IAR program;

(g) review and sign an agreement with SSA.

• Recordkeeping Requirements (h & i)—the IAR agencies agree to retain all notices, agreement, authorizations, and accounting forms for the period defined in the IAR agreement so SSA may verify transactions covered under the agreement.

• Third Party Disclosure Requirements (j)—each participating IAR agency agrees to send written notices from the IAR agency to the recipient regarding payment amounts and appeal rights.

• Periodic Review of Agency Accounting Process (k-m)—the IAR agency makes the IAR accounting records of paid cases available for SSA review and verification. SSA conducts reviews either onsite or through the mail of the authorization forms, notices to the claimant and accounting forms. Upon completion of the review, SSA provides a written report of findings to the IAR agency director.

The respondents are State IAR officers.

Type of Request: Revision of an OMB-approved information collection.

Modality of completion | Number of respondents (States) | Frequency of response | Number of responses | Average burden per response (minutes) | Estimated total annual burden hours (hours) | Average theoretical hourly cost amount (dollars) * | Total annual opportunity cost (dollars) **
Reporting Requirements
(a) State notification of receipt of authorization (Electronic Process) | 11 | 6,973 | 76,703 | 1 | 1,278 | * $19.58 | ** $25,023
(b) State submission of copy of authorization (Manual Process) | 27 | 1,894 | 51,138 | 3 | 2,557 | * 19.58 | ** 50,066
(c) State submission of amount of IA paid to recipients (using eIAR) | 38 | 1,346 | 51,148 | 8 | 6,820 | * 19.58 | ** 133,536
(d) State request for determination—dispute resolution | (¹) | 1 | 2 | 30 | 1 | * 19.58 | ** 20
(e) State computation of reimbursement due form SSA using paper Form SSA-L8125-F6 | 38 | 1 | 38 | 30 | 4 | * 19.58 | ** 78
(f) State notification to SSA of deceased claimant | 20 | 2 | 40 | 15 | 10 | * 19.58 | ** 196
(g) State reviewing/signing of IAR Agreement | 38 | 1 | 38 | ² 12 | 456 | * 19.58 | ** 8,928
Recordkeeping Requirements
(h) Maintenance of authorization forms | 38 | 3,364 | ³ 127,832 | 3 | 6,392 | * 21.09 | ** 134,807
(i) Maintenance of accounting forms and notices | 38 | 1,346 | 51,148 | 3 | 2,557 | * 21.09 | ** 53,927
Third Party Disclosure Requirements
(j) Written notice from State to recipient regarding amount of payment | 38 | 2668 | 101,384 | 7 | 11,828 | * 19.58 | ** 231,592
Periodic Review of Agency Accounting Process
(k) Retrieve and consolidate authorization and accounting forms | 12 | 1 | 12 | 3 | 36 | * 21.09 | ** 759
(l) Participate in periodic review | 12 | 1 | 12 | 16 | 192 | * 21.09 | ** 4,049
(m) Correct administrative and accounting discrepancies | 6 | 1 | 6 | 4 | 24 | * 21.09 | ** 506
Total Administrative Burden
Total | 38 |  | 408,353 |  | 32,155 |  | ** 643,487
¹ Average of about 2 States per year.
² Hours.
³ Includes both denied and approved SSI claims.
* We based this figure on average Social and Human Services Assistants (https://www.bls.gov/oes/current/oes211093.htm), and Information and Records Clerks (https://www.bls.gov/oes/current/oes434199.htm).
** This figure does not represent actual costs that SSA is imposing on recipients of Social Security payments to complete this application; rather, these are theoretical opportunity costs for the additional time respondents will spend to complete the application. There is no actual charge to respondents to complete the application.

8. Appeal of Determination for Extra Help with Medicare Prescription Drug Plan Costs—0960-0695. Public Law 108-173, the Medicare Perscription Drug, Improvement, and Modernization Act of 2003, established the Medicare Part D program for voluntary prescription drug coverage for certain low-income individuals. The law provides for subsidies for individuals who are eligible for the program and who meet eligibility criteria for help with premium, deductible, and co-payment costs. SSA uses Form SSA-1021, Appeal of Determination for Extra Help With Medicare Prescription Drug Plan Costs, to obtain information from individuals who appeal SSA's decisions regarding eligibility or continuing eligibility for a Medicare Part D subsidy. The respondents are Medicare beneficiaries, or representative payee applicants acting on behalf of a Medicare beneficiary, who do not agree with the outcome of an SSA subsidy eligibility determination, and are filing an appeal.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1021 (Paper version) | 2,872 | 1 | 10 | 479 | * $25.72 | 0 | *** $12,320
SSA-1021 (Intranet version: MAPS) | 9,691 | 1 | 10 | 1,615 | * 25.72 | ** 24 | *** 141,229
Totals | 12,563 |  |  | 2,094 |  |  | *** 153,549
* We based this figure on average U.S. worker's hourly wages as reported by Bureau of Labor Statistics data (https://www.bls.gov/oes/current/oes_stru.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

9. Request for Medical Treatment in an SSA Employee Health Facility: Patient Self-Administered or Staff Administered Care—0960-0772. SSA operates onsite Employee Health Clinics (EHC) in eight different States. These clinics provide health care for all SSA employees including treatments of personal medical conditions when authorized through a physician. Form SSA-5072 is the employee's personal physician's order form. The information we collect on Form SSA-5072 gives the EHC nurses the guidance they need to perform certain medical procedures and to administer prescription medications such as allergy immunotherapy. In addition, the information allows the SSA medical officer to determine whether the nurses can administer treatment safely and appropriately in the SSA EHCs. Respondents are physicians of SSA employees who need to have medical treatment in an SSA EHC.

Type of Request: Revision of an OMB-approved information collection.

Modality of completion | Number of respondents | Frequency of response | Number of responses | Average burden per response (minutes) | Estimated total annual burden (hours) | Average theoretical hourly cost amount (dollars) * | Total annual opportunity cost (dollars) **
SSA-5072 Annually | 25 | 1 | 25 | 5 | 2 | * $96.85 | ** $194
SSA-5072 Bi-Annually | 75 | 2 | 150 | 5 | 13 | * 96.85 | ** 1,259
Totals | 100 |  |  |  | 15 |  | ** 1,453
* We based this figure on average physician's hourly salary, as reported by Bureau of Labor Statistics data (https://www.bls.gov/oes/current/oes291216.htm).
** This figure does not represent actual costs that SSA is imposing on recipients of Social Security payments to complete this application; rather, these are theoretical opportunity costs for the additional time respondents will spend to complete the application. There is no actual charge to respondents to complete the application.

10. Medicare Income-Related Monthly Adjustment Amount—Life-Changing Event Form—0960-0784. Federally mandated reductions in the Federal Medicare Part B and prescription drug coverage subsidies result in selected Medicare recipients paying higher premiums due to income above a specific threshold. The amount of the premium subsidy reduction is an income-related monthly adjustment amount (IRMAA). The Internal Revenue Service (IRS) transmits income tax return data to SSA for SSA to determine the IRMAA. SSA uses the Form SSA-44 to determine if a recipient qualifies for a reduction in the IRMAA. If affected Medicare recipients believe SSA should use more recent tax data because of a life-changing event that significantly reduces their income, they can report these changes to SSA and ask for a new initial determination of their IRMAA. The respondents are Medicare Part B and prescription drug coverage Retirement Insurance recipients and enrollees with modified adjusted gross income over a high-income threshold who experience one of eight significant life-changing event.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
Personal Interview (SSA field office) | 178,840 | 1 | 30 | 89,420 | * $25.72 | ** 24 | *** $4,139,788
SSA-44 | 76,645 | 1 | 45 | 57,484 | * 25.72 | 0 | *** 1,478,488
Totals | 255,485 |  |  | 146,904 |  |  | *** 5,618,276
* We based this figure on average U.S. worker's hourly wages as reported by Bureau of Labor Statistics data (https://www.bls.gov/oes/current/oes_stru.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

11. Generic Clearance for the Collection of Qualitative Feedback on Agency Service Delivery—0960-0788. SSA, as part of our continuing effort to reduce paperwork and respondent burden, invites the general public to take this opportunity to comment on the “Generic Clearance for the Collection of Qualitative Feedback on Agency Service Delivery ” for approval under the Paperwork Reduction Act (PRA) (44 U.S.C. 3501 et seq.). We developed this collection as part of a Federal Government-wide effort to streamline the process for seeking feedback from the public on service delivery.

Under the auspices of Executive Order 12862, Setting Customer Service Standards, SSA conducts multiple satisfaction surveys each year. This proposed information collection activity provides a means to garner qualitative customer and stakeholder feedback in an efficient, timely manner, in accordance with SSA's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative, and actionable communications between SSA and our customers and stakeholders.

The solicitation of feedback will target areas such as: Timeliness; appropriateness; accuracy of information; courtesy; efficiency of service delivery; and resolution of issues with service delivery. We will assess responses to plan and inform efforts to improve or maintain the quality of service offered to the public. If we do not collect this information, we would not have access to vital feedback from customers and stakeholders on SSA's services.

We will only submit a collection for approval under this generic clearance if it meets the following conditions: (1) The collections are voluntary; (2) the collections are low-burden for respondents (based on considerations of total burden hours, total number of respondents, or burden-hours per respondent) and are low-cost for both the respondents and the Federal Government; (3) the collections are non-controversial and do not raise issues of concern to other Federal agencies; (4) any collection targeted to the solicitation of opinions from respondents who have experience with the program or may have experience with the program in the near future; (5) we collect personally identifiable information (PII) only to the extent necessary and we do not retain it; (6) we will use information gathered only internally for general service improvement and program management purposes and we will not release it outside of the agency; (7) we will not use information we gather for the purpose of substantially informing influential policy decisions; and (8) information we gather will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

As a general matter, information collections will not result in any new system of records containing privacy information and will not ask questions of a sensitive nature, such as sexual behavior and attitudes, religious beliefs, and other matters that are commonly considered private.

The respondents are recipients of SSA services (including most members of the public), professionals, and individuals who work on behalf of SSA beneficiaries.

Type of Request: Extension of an OMB-approved information collection.

Affected Public: Individuals and households, businesses and organizations, State, Local or Tribal government.

Total Estimated Number of Respondents: 5,454,212.

Below we provide projected average estimates for the next three years:

Annual Respondents: 1,818,404.

Annual Responses: 1,818,404.

Frequency of Response: Once per request.

Average Minutes per Response: 13 minutes (12.6912).

Estimated Annual Burden: 384,629 hours.

II. SSA submitted the information collection below to OMB for clearance. Your comments regarding this information collection would be most useful if OMB and SSA receive them 30 days from the date of this publication. To be sure we consider your comments, we must receive them no later than August 28, 2020. Individuals can obtain copies of the OMB clearance package by writing to OR.Reports.Clearance@ssa.gov.

1. Notice to Electronic Information Exchange Partners to Provide Contractor List—0960-NEW. The Privacy Act of 1974, E-Government Act of 2002, and the National Institute of Standard Special Publications 800-53-4 require the SSA to maintain oversight of the information it provides to Electronic Information Exchange Partners (EIEPs). EIEPs obtain SSA data for the administration of federally funded and state-administered programs. SSA has a responsibility to monitor and protect the personally identifiable information SSA shares with other Federal and State agencies, and private organizations through the Computer Matching and Privacy Protection Act, and the Information Exchange Agreements (IEA). Under the terms of the State Transmission Component IEA, and agency IEA, EIEPs agree to comply with Electronic Information Exchange security requirements and procedures for State and local agencies exchanging electronic information with SSA. SSA's Technical Systems Security Requirements document provides that all agencies using SSA data ensure that SSA information is not processed, maintained, transmitted, or stored in (including by means of data communications channel) any electronic devices, computers, or computer networks located in geographic or virtual areas not subject to U.S. law. SSA conducts tri-annual compliance reviews of all State and local agencies, and Tribes with whom we have an IEA, to verify appropriate security safeguards remain in place to protect the confidentiality of information SSA supplies. SSA requires any organization with an electronic data exchange agreement, to provide the SSA Regional Office contact a current list of contractors, or agents who have access to SSA data upon request. SSA uses Form SSA-731, Notice to Electronic Information Exchange Partners to Provide Contractor List, to collect this information. The respondents are Federal agencies; State, local, or tribal agencies; who exchange electronic information with SSA.

Type of Request: Request for a new information collection.

Modality of completion | Number of respondents | Frequency of response | Average burden per response (minutes) | Estimated total annual burden (hours) | Average theoretical hourly cost amount (dollars) * | Total annual opportunity cost (dollars) **
SSA-731 | 300 | 1 | 20 | 100 | * $18.00 | ** $3,960
* We based this figure on average State, local and tribal government worker's salaries (https://www.bls.gov/oes/current/oes434199.htm).
** This figure does not represent actual costs that SSA is imposing on recipients of Social Security payments to complete this application; rather, these are theoretical opportunity costs for the additional time respondents will spend to complete the application. There is no actual charge to respondents to complete the application.

2. Application for Survivor's Benefits—20 CFR 404.611(a) and (c)—0960-0062. Surviving family members of armed services personnel can file for Social Security and veterans' benefits with SSA or at the Veterans Administration (VA). Applicants filing for Title II survivor benefits at the VA complete Form SSA-24, which the VA forwards to SSA for processing. SSA uses the information to determine eligibility for benefits. The respondents are survivors of deceased armed services personnel who are applying for benefits at the VA.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-8060-U3 | 3,200 | 1 | 15 | 800 | * $25.72 | ** 24 | *** $53,498
* We based this figure on average U.S. worker's hourly wages as reported by Bureau of Labor Statistics data (https://www.bls.gov/oes/current/oes_stru.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

3. Railroad Employment Questionnaire—20 CFR 404.1401, 404.1406-404.1408—0960-0078. Railroad workers, their dependents, or survivors can concurrently apply for railroad retirement and Social Security benefits at SSA if the number holder, or claimant on the number holder's Social Security Number, worked in the railroad industry. SSA uses Form SSA-671 to coordinate Social Security claims processing with the Railroad Retirement Board and to determine benefit entitlement and amount. The respondents are Social Security benefit applicants previously employed by a railroad or dependents of railroad workers.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-671 | 125,000 | 1 | 5 | 10,417 | * $25.72 | ** 24 | *** $1,553,925
* We based this figure on average U.S. worker's hourly wages as reported by Bureau of Labor Statistics data (https://www.bls.gov/oes/current/oes_stru.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

4. Modified Benefit Formula Questionnaire-Employer—20 CFR 404.213 and 404.243—0960-0477. Sections 215(a)(7) and 215(d)(3) of the Social Security Act requires SSA to use a modified benefit formula to compute Social Security retirement or disability benefits for persons first eligible (after 1985) for both a Social Security benefit and a pension or annuity, based on employment not covered by Social Security. This method is the Windfall Elimination Provision (WEP). SSA makes a determination regarding whether the WEP applies, and when to apply it to a person's benefit. SSA uses Form SSA-58 to verify the claimant's allegations on Form SSA-150 (OMB No. 0906-0395, Modified Benefits Formula Questionnaire). SSA also uses Form SSA-58 to determine if the modified benefit formula applies, and when to apply it to a person's benefits. SSA sends Form SSA-58 to an employer for pension related information, if the claimant is unable to provide it. The respondents are employers of people who are eligible after 1985 for both Social Security benefits and a pension based on work not covered by SSA.

Type of Request: Revision of an OMB-approved information collection.

Modality of completion | Number of respondents | Frequency of response | Average burden per response (minutes) | Estimated total annual burden (hours) | Average theoretical hourly cost amount (dollars) * | Total annual opportunity cost (dollars) **
SSA-58 | 26,925 | 1 | 3 | 1,346 | * $20.39 | ** $27,445
* We based this figure on average Information and Records Clerks (https://www.bls.gov/oes/current/oes434199.htm).
** This figure does not represent actual costs that SSA is imposing on recipients of Social Security payments to complete this application; rather, these are theoretical opportunity costs for the additional time respondents will spend to complete the application. There is no actual charge to respondents to complete the application.

5. myWageReport—20 CFR 404.1520(b), 404.1571-404.1576, & 404.1584-404.1593—0960-0808. The myWageReport application will enable Social Security Disability Insurance (SSDI) beneficiaries, and representative payees to report earnings electronically. It will also generate a receipt for the beneficiary or representative payee, providing confirmation that SSA has received the earnings report. SSA will screen the information submitted through the myWageReport application and will determine if we need additional employment information. If so, agency personnel will reach out to beneficiaries, or their representative payees and will use Form SSA-821, Work Activity Report (0960-0059), to collect the additional required information. The respondents for this collection are SSDI recipients or their representative payees.

Type of Request: Revision of an OMB approved information collection.

Modality of completion | Number of respondents | Frequency of response | Average burden per response (minutes) | Estimated total annual burden (hours) | Average theoretical hourly cost amount (dollars) * | Total annual opportunity cost (dollars) **
myWageReporting | 88,000 | 1 | 7 | 10,267 | * $10.73 | ** $110,165
* We based this figure on average DI payments, as reported in SSA's disability insurance payment data (https://www.ssa.gov/legislation/2020Fact%20Sheet.pdf).
** This figure does not represent actual costs that SSA is imposing on recipients of Social Security payments to complete this application; rather, these are theoretical opportunity costs for the additional time respondents will spend to complete the application. There is no actual charge to respondents to complete the application.

Date: July 23, 2020.
Naomi Sipple,
Reports Clearance Officer, Social Security Administration.

[FR Doc. 2020-16361 Filed 7-28-20; 8:45 am]

BILLING CODE 4191-02-P